DEPARTMENT OF TRANSPORTATION

Federal Aviation Administration

14 CFR Part 39

[Docket No. FAA-2010-1082; Directorate Identifier 2009-SW-041-AD; Amendment 39-16491; AD 2010-23-02]

RIN 2120-AA64

Airworthiness Directives; Eurocopter France (Eurocopter) Model SA-365N, SA-365N1, AS-365N2, and AS 365 N3 Helicopters

AGENCY: Federal Aviation Administration, DOT.

ACTION: Final rule; request for comments.

SUMMARY: This amendment adopts a new airworthiness directive (AD) for the specified Eurocopter model helicopters. This action requires amending the Limitations section of the Rotorcraft Flight Manual (RFM) to limit the never-exceed velocity (VNE) to 150 Knots Indicated Air Speed (KIAS) and to add a 1,500 ft/minute rate of descent (R/D) limitation beyond 140 KIAS. This action also requires installing one or more placards on the cockpit instrument panel in full view of the pilot and co-pilot. This amendment is prompted by failures of the horizontal stabilizers on recently delivered Model AS 365 N3 helicopters. Tests indicate that the failures were due to a vibration phenomenon that may arise during the descent flight phases at high speed regardless of the stabilizer installed. The actions specified in this AD are intended to restrict the VNE, to prevent failure of the horizontal stabilizer, and subsequent loss of control of the helicopter.

DATES: Effective November 22, 2010.

Comments for inclusion in the Rules Docket must be received on or before January 4, 2011.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Gary Roach, Aviation Safety Engineer, FAA, Rotorcraft Directorate, Regulations and Guidance Group, 2601 Meacham Blvd., Fort Worth, Texas 76137, telephone (817) 222-5130, fax (817) 222-5961.

SUPPLEMENTARY INFORMATION:

Discussion

The European Aviation Safety Agency (EASA), which is the Technical Agent for the Member States of the European Community, has issued EASA Emergency AD No. 2008-0204-E, dated December 4, 2008, to correct an unsafe condition for the specified Eurocopter model helicopters. EASA advises that Eurocopter has received reports of failed horizontal stabilizers on recently delivered AS 365 N3 helicopters. The failures occurred during acceptance test and training flights as part of the demonstration of the VNE and resulted in in-flight separation and loss of the failed sections. In each case, the helicopters succeeded in returning to base with no further problems. Tests conducted on the helicopter and in the laboratory have revealed the reported incidents were due to a vibration phenomenon that may arise in the descent flight phases at high speed “regardless of the stabilizer definition.” Although EASA AD 2008-0110-E, dated June 6, 2008, which is superseded by EASA AD 2008-0204-E, dated December 4, 2008, applied to the Model SA-336G1, EASA states that the stabilizer assembly procedure on SA-366G1 helicopters modifies the dynamic behavior of the stabilizer. Since an unsafe condition does not exist on that helicopter, the SA-366G1 has been deleted from the EASA AD applicability.

Related Service Information

Eurocopter has issued an Emergency Alert Service Bulletin (EASB) with 3 numbers (01.00.60, 01.00.16, and 01.28), Revision 1, dated December 2, 2008. EASB No. 01.00.60 applies to U.S. type-certificated Model SA-365N, SA-365N1, AS-365N2, and AS 365 N3 helicopters and also to military Model AS365F, Fs, Fi, and K helicopters that are not type certificated in the United States. EASB No. 01.00.16 applies to military Model AS565AA, MA, MB, SA, SB, and UB helicopters that are not type certificated in the United States. EASB 01.28 applies to the Model SA-366G1 helicopter. The EASB specifies bonding one or more locally-produced labels to the instrument panel stating that the VNE is limited to 150 KIAS and the R/D must not exceed 1,500 ft/min beyond 140 KIAS. Eurocopter states in the EASB that it is working on an enhanced definition that will be proposed as soon as possible. EASA classified this EASB as mandatory and issued Emergency AD No. 2008-0204-E, dated December 4, 2008, to ensure the continued airworthiness of these helicopters.

FAA's Evaluation and Unsafe Condition Determination

These helicopters have been approved by the aviation authority of France and are approved for operation in the United States. Pursuant to our bilateral agreement with France, EASA, their technical representative, has notified us of the unsafe condition described in the MCAI AD. We are issuing this AD because we evaluated all information provided by EASA and determined the unsafe condition exists and is likely to exist or develop on other helicopters of these same type designs.

Differences Between This AD and the EASA AD

This AD uses a compliance time of before further flight rather than before next flight after June 7, 2008, as stated in the EASA AD.

FAA's Determination and Requirements of This AD

This unsafe condition is likely to exist or develop on other helicopters of these same type designs. Therefore, this AD is being issued to restrict the VNE to prevent failure of the horizontal stabilizer and subsequent loss of control of the helicopter. This AD requires amending the Limitations section of the RFM to limit the VNE to 150 KIAS and to add a 1,500 ft/minute R/D limitation for airspeeds beyond 140 KIAS. This action also requires installing one or more placards on the cockpit instrument panel in full view of the pilot and co-pilot stating the limitations. The change to the Operating limitation section of the RFM may be made in pen and ink or a copy of this AD may be filed in the Limitations section of the RFM.

The short compliance time involved is required because the previously described critical unsafe condition can adversely affect the controllability and structural integrity of the helicopter. Amending the Limitations section of the RFM to limit the VNE to 150 KIAS and adding a 1,500 ft/minute R/D limitation beyond 140 KIAS are required before further flight and installing one or more placards on the cockpit instrument panel is required. Therefore, this AD must be issued immediately.

Since a situation exists that requires the immediate adoption of this regulation, it is found that notice and opportunity for prior public comment hereon are impracticable, and that good cause exists for making this amendment effective in less than 30 days.

Costs of Compliance

We estimate that this AD will affect about 39 helicopters of U.S. registry. We also estimate that it will take about l/2 work-hour per helicopter to make copies to include in the RFM and to make and install the placards. The average labor rate is $85 per work-hour. The parts costs are minimal. Based on these figures, we estimate the cost of this AD on U.S. operators is $1,658 for the fleet.

Comments Invited

This AD is a final rule that involves requirements that affect flight safety and was not preceded by notice and an opportunity for public comment; however, we invite you to submit any written data, views, or arguments regarding this AD. Send your comments to an address listed under ADDRESSES. Include “Docket No. FAA-2010-1082; Directorate Identifier 2009-041-SW-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of the docket web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-23-02 Eurocopter France: Amendment 39-16491; Docket No. FAA-2010-1082; Directorate Identifier 2009-SW-041-AD.

Applicability: Model SA-365N, SA-365N1, AS-365N2, and AS 365 N3-helicopters, with a horizontal stabilizer, part number 365A13-3030-1901, -1902, -1903, -1904, -1905, -1906, -1908, -1909; 365A13-3036-00, -0001, -0002, -0003; or 365A13-3038-00, installed, certificated in any category.

Compliance: Before further flight, unless accomplished previously.

To restrict the never-exceed velocity (VNE) to prevent failure of the horizontal stabilizer, and subsequent loss of control of the helicopter, do the following:

(a) Revise the airspeed operating limitation in the Limitations section of the Rotorcraft Flight Manual (RFM) by making pen and ink changes or by inserting a copy of this AD into the RFM stating: “The never-exceed speed (VNE) is limited to 150 knots indicated airspeed (KIAS),” and “The rate-of-descent (R/D) must not exceed 1,500 ft/min when the airspeed is beyond 140 KIAS.”

(b) Install one or more self-adhesive placards, with 6 millimeter red letters on white background, on the cockpit instrument panel in full view of the pilot and co-pilot to read as follows:

“VNE LIMITED TO 150 KIAS”

“R/D MUST NOT EXCEED 1,500 ft/min when airspeed is beyond 140 KIAS”

(c) To request a different method of compliance or a different compliance time for this AD, follow the procedures in 14 CFR 39.19. Contact the Manager Safety Management Group: ATTN: Gary Roach, Aerospace Engineer, FAA, Regulations and Policy Group, 2601 Meacham Blvd., Fort Worth, Texas 76137; telephone: (817) 222-5130; fax: 817-222-5961, for information about previously approved alternative methods of compliance.

(d) The Joint Aircraft System/Component (JASC) Code is 5510: Horizontal Stabilizer Structure.

(e) This amendment becomes effective on November 22, 2010.

Note: The subject of this AD is addressed in European Aviation Safety Agency Emergency AD No. 2008-0204-E, dated December 4, 2008, and in Eurocopter Emergency Alert Service Bulletin No. 01.00.60, Revision 1, dated December 2, 2008, for the Model AS365N series helicopters.

Issued in Fort Worth, Texas, on October 15, 2010.
Mark R. Schilling,
Acting Manager, Rotorcraft Directorate, Aircraft Certification Service.

[FR Doc. 2010-27972 Filed 11-4-10; 8:45 am]

BILLING CODE 4910-13-P